DEPARTMENT OF TRANSPORTATION

Federal Railroad Administration

[Docket Number FRA-2006-25764]

Petition for Waiver of Compliance

In accordance with Part 211 of title 49 Code of Federal Regulations (CFR), notice is hereby given that the Federal Railroad Administration (FRA) received a request for a waiver of compliance with certain Federal railroad safety requirements. The individual petition is described below, including the party seeking relief, the regulatory provisions involved, the nature of the relief being requested, and the petitioner's arguments in favor of relief.

Union Pacific Railroad Company

On November 6, 2006, Union Pacific Railroad Company (UP), amended its original petition (Docket Number FRA-2006-25764) for a waiver of compliance with certain requirements of 49 CFR 232.205 (Class I Brake Test—Initial Terminal Inspection, published January 17, 2001) and 49 CFR 215 (Railroad Freight Car Safety Standards, published April 21, 1980), for freight cars received in interchange from the Ferrocarriles Nacionales de Mexico Railroad (FXE) at Calexico, California. Specifically, UP amended its petition to request that freight cars be allowed to move from the FXE interchange point at Calexico to Heber and/or to El Centro, California, a distance of 5.5 and 10.1 miles, respectively. A Class III brake test-trainline continuity inspection per 49 CFR 232.211 would be performed prior to departing Calexico, and cars would be moved at a speed not to exceed 20 miles per hour. The train would be equipped with an operable “end-of-train” device, and any bad order freight cars would be switched out at Heber or El Centro, California, for repair by mechanical forces.

Interested parties are invited to participate in these proceedings by submitting written data or comments. FRA does not anticipate scheduling a public hearing in connection with these proceedings since the facts do not appear to warrant a hearing. If any interested party desires an opportunity for oral comment, they should notify FRA in writing before the end of the comment period and specify the basis for their request.

All communications concerning this petition should identify the appropriate docket number (FRA-2006-25764) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communication received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on November 13, 2006.
Grady C. Cothen, Jr.
Deputy Associate Administrator, for Safety Standards and Program Development.

[FR Doc. E6-19448 Filed 11-16-06; 8:45 am]

BILLING CODE 4910-06-P